DEPARTMENT OF COMMERCE

National Oceanic and Atmospheric Administration

[I.D. 021804B]

Proposed Information Collection; Comment Request; Steller Sea Lion Protection Pilot Economic Survey

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 26, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information should be directed to Dr. Dan Lew, National Marine Fisheries Service, Alaska Fisheries Science Center, 7600 Sand Point Way NE, Seattle, WA 98115; telephone: (206) 526-4252; fax: (206) 526-6723; e-mail: dan.lew@noaa.gov.

SUPPLEMENTARY INFORMATION:

I. Abstract

The National Marine Fisheries Service (NMFS) plans to conduct a pilot survey with the objective of testing a survey instrument that will be used to collect data for measuring the preferences that U.S. residents have toward protecting the Steller sea lion (Eumetopias jubatus), which is a listed species under the Endangered Species Act of 1973 (16 U.S.C. 35). NMFS is charged with protecting this species and has identified numerous potential protection options, and begun implementing selected options, to this end (68 FR 204). Since different management options are available to protect Steller sea lions, it is important to understand the public’s attitudes toward the variety of potential impacts on Steller sea lions, Alaskan fisheries and fishing communities, and the nation. This information is currently not available, yet is crucial to ensure the efficient management of Alaskan fisheries and protection of Steller sea lions.

The pilot survey instrument will present the latest information on Steller sea lions, current population trends, alternative management options, and likely impacts of management options. The survey is expected to ask respondents for information regarding their knowledge and opinions of Steller sea lions, other endangered species, Alaska fisheries and communities, and potential goals and impacts of management options available to protect the endangered population of Steller sea lions, in addition to standard socio-demographic information needed to classify respondents. The pilot pre-test will gather a sufficient number of responses to evaluate the information presentation, reliability, internal consistency, response variability, and other properties of a newly developed survey. Results from these activities will be used to make improvements to the survey instrument.

II. Method of Collection

Since the data collected in the pilot pre-test is not intended to be used to generate national estimates, non-probability sampling methods will be employed to select a sample that is sufficiently diverse for the purposes of providing a range of feedback on the survey instrument. It is anticipated that the pilot survey will be given to approximately 130 voluntary respondents recruited by telephone in 3-4 areas of the continental U.S. and Alaska. Telephone recruitment calls are expected to be brief, lasting up to about 3 minutes each. Individuals who agree to participate in the pilot pre-test will be asked to meet with survey administrators at a nearby central survey administration location where they will self-administer the survey and participate in a one-on-one follow-up debriefing. This debriefing involves a survey administrator asking a set of questions about the survey to elicit feedback about key design and conceptual components of the survey instrument. Respondents will be given an honorarium for participating in the pilot pre-test activities.

Up to 1,300 recruitment phone calls are anticipated to be made to recruit the 130 participants. At 3 minutes apiece, this amounts to 65 hours. The survey is expected to take approximately 25 minutes to complete, while the debriefing will be about 15 additional minutes, for a total of about 40 minutes or 0.67 hours for the entire process. Thus, we estimate the total respondent time burden to be 151.67 hours (rounded to 152) (130 participants multiplied by 0.67 hours plus the time for recruitment calls).

III. Data

OMB Number: None.

Form Number: None.

Type of Review: Regular submission.

Affected Public: Individuals or households.

Estimated Number of Respondents: 1,300 in recruitment; 130 in pilot pre-test activities.

Estimated Time Per Response: 3 minutes per recruitment; 40 minutes for pilot pre-test activities.

Estimated Total Annual Burden Hours: 152.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 18, 2004.
Gwellnar Banks,
Management Analyst, Office of the Chief Information Officer.

[FR Doc. 04-4022 Filed 2-23-04; 8:45 am]

BILLING CODE 3510-22-S